INTERNATIONAL TRADE COMMISSION

[Investigations Nos. 701-TA-413 (Preliminary) and 731-TA-913-918 (Preliminary)]

Stainless Steel Bar From France, Germany, Italy, Korea, Taiwan, and the United Kingdom

Determinations

On the basis of the record ¹ developed in the subject investigations, the United States International Trade Commission determines,² pursuant to section 733(a) of the Tariff Act of 1930 (the Act),³ that there is a reasonable indication that an industry in the United States is materially injured by reason of imports of stainless steel bar ⁴ from France, Germany, Italy, Korea, Taiwan, and the United Kingdom that are alleged to be sold in the United States at less than fair value (LTFV).⁵

¹ The record is defined in sec. 207.2(f) of the Commission's Rules of Practice and Procedure (19 CFR 207.2(f)).

² Commissioner Dennis M. Devaney not participating.

³ 19 U.S.C. 1673b(a).

⁴ For purposes of these investigations, the term “stainless steel bar” includes articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. Stainless steel bar includes cold-finished stainless steel bars that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which if less than 4.75 mm in thickness have a width measuring at least 10 times the thickness, or if 4.75 mm or more in thickness having a width which exceeds 150 mm and measures at least twice the thickness), products that have been cut from stainless steel sheet, strip, or plate, wire (i.e., cold-formed products in coils, of any uniform solid cross section along their whole length, which do not conform to the definition of flat-rolled products), and angles, shapes and sections.

⁵ Commissioner Lynn M. Bragg determines that there is a reasonable indication that an industry in the United States is threatened with material injury.

The Commission also determines,⁶ pursuant to section 703(a) of the Act,⁷ that there is a reasonable indication that an industry in the United States is materially injured by reason of imports of stainless steel bar from Italy that are alleged to be subsidized by the Government of Italy.⁸

⁶ Commissioner Dennis M. Devaney not participating.

⁷ 19 U.S.C. 1671b(a).

⁸ Commissioner Lynn M. Bragg determines that there is a reasonable indication that an industry in the United States is threatened with material injury.

Commencement of Final Phase Investigations

Pursuant to section 207.18 of the Commission's rules, the Commission also gives notice of the commencement of the final phase of its investigations. The Commission will issue a final phase notice of scheduling which will be published in the Federal Register as provided in section 207.21 of the Commission's rules upon notice from the Department of Commerce (Commerce) of affirmative preliminary determinations in the investigation under sections 703(b) and 733(b) of the Act, or, if the preliminary determinations are negative, upon notice of affirmative final determinations in those investigations under sections 705(a) and 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

The Commission instituted these investigations effective December 28, 2000, following receipt of a petition filed with the Commission and the Department of Commerce by Carpenter Technology Corp. (Wyomissing, PA); Crucible Specialty Metals (Syracuse, NY); Electralloy Corp. (Oil City, PA); Empire Specialty Steel, Inc. (Dunkirk, NY); Slater Steels Corp., Specialty Alloys Division (Fort Wayne, IN); and the United Steelworkers of America, AFL-CIO/CLC (Pittsburgh, PA), alleging that an industry in the United States is materially injured and threatened with material injury by reason of imports of stainless steel bar from France, Germany, Italy, Korea, Taiwan, and the United Kingdom, that are alleged to be sold in the United States at LTFV, and by reason of imports of stainless steel bar from Italy that are alleged to be subsidized by the Government of Italy. Accordingly, effective December 28, 2000, the Commission instituted countervailing duty investigation No. 701-TA-413 (Preliminary) and antidumping investigations Nos. 731-TA-913-918 (Preliminary).

Notice of the institution of the Commission's investigations and of a public conference to be held in connection therewith was given by posting copies of the notice in the Office of the Secretary, U.S. International Trade Commission, Washington, DC, and by publishing the notice in the Federal Register of January 4, 2001 (66 FR 807). The conference was held in Washington, DC, on January 18, 2001, and all persons who requested the opportunity were permitted to appear in person or by counsel.

The Commission transmitted its determinations in these investigations to the Secretary of Commerce on February 12, 2001. The views of the Commission are contained in USITC Publication 3395 (February 2001), entitled Stainless Steel Bar From France, Germany, Italy, Korea, Taiwan, and the United Kingdom: Investigations Nos. 701-TA 413 and 731-TA-913-918 (Preliminary).

Issued: February 13, 2001.
By order of the Commission.
Donna R. Koehnke,
Secretary.

[FR Doc. 01-4435 Filed 2-22-01; 8:45 am]

BILLING CODE 7020-02-P